DEPARTMENT OF TRANSPORTATION

Federal Railroad Administration

Notice of Public Hearing; The Union Pacific Railroad (Docket Number 2000-7912)

The Union Pacific Railroad (UP) has petitioned the Federal Railroad Administration (FRA) seeking a waiver of compliance with the requirements of 49 CFR 214.329. UP requests relief that will permit the use of a system described by UP as the automatic train approach warning system (TAWS). UP proposes that roadway work groups be permitted to substitute TAWS for watchmen/lookouts as the method of train approach warning when fouling a track within equipped interlockings and controlled points. UP also proposes that lone workers be permitted to use TAWS as a method of train approach warning within the limits of those interlockings and controlled points without a requirement to establish working limits. Technical details of the TAWS system, its developmental history, and its function were described in the Federal Register notice cited in the following sentence.

The FRA issued a public notice (65 FR 57237, September 21, 2000) seeking comments of interested parties. After examining the railroad's proposal and the available facts, FRA has determined that a public hearing is necessary before a final decision is made on this proposal.

Accordingly, a public hearing is hereby set for 9 a.m. CST, on Thursday, January 4, 2001, in Room 102-A (first floor) of the Peter Kiewit Building, 1313 Farnam Street, Omaha, Nebraska. Interested parties are invited to present oral statements at the hearing.

The hearing will be an informal one and will be conducted in accordance with Rule 25 of the FRA Rules of Practice (Title 49 CFR Part 211.25), by a representative designated by the FRA.

Issued in Washington, DC on November 21, 2000.
Grady C. Cothen, Jr.,
Deputy Associate Administrator for Safety Standards and Program Development.

[FR Doc. 00-30430 Filed 11-28-00; 8:45 am]

BILLING CODE 4910-06-P